DEPARTMENT OF THE TREASURY

Bureau of Alcohol, Tobacco and Firearms

27 CFR Parts 6, 8, 10 and 11

[T.D. ATF-428]

RIN 1512-AC01

Delegation of Authority (99R-282P)

AGENCY: Bureau of Alcohol, Tobacco and Firearms (ATF), Treasury.

ACTION: Treasury Decision; Final rule.

SUMMARY: This final rule places most ATF authorities contained in certain ATF regulations with the “appropriate ATF officer” and requires that persons file documents required by those regulations with the “appropriate ATF officer”. Also, this final rule removes the definitions of, and references to, specific officers subordinate to the Director. Concurrently with this Treasury Decision, ATF Order 1130.7 is being published elsewhere in this issue of the Federal Register. Through this order, the Director has delegated most of the authorities in the affected regulations to the appropriate ATF officers and specified the ATF officers with whom applications, notices and other reports, which are not ATF forms, are filed.

EFFECTIVE DATE: August 28, 2000.

FOR FURTHER INFORMATION CONTACT: Robert Ruhf, Regulations Division, Bureau of Alcohol, Tobacco and Firearms, 650 Massachusetts Avenue NW, Washington, DC 20226, (202-927-8220).

SUPPLEMENTARY INFORMATION:

Background

Pursuant to Treasury Order 120-01 (formerly 221), dated June 6, 1972, the Secretary of the Treasury delegated to the Director of the Bureau of Alcohol, Tobacco and Firearms (ATF), the authority to enforce, among other laws, the provisions of the Federal Alcohol Administration (FAA) Act. The Director has subsequently redelegated certain of these authorities to appropriate subordinate officers by way of various means, including by regulation, ATF delegation orders, regional directives, or similar delegation documents. As a result, to ascertain what particular officer is authorized to perform a particular function under the FAA Act, each of these various delegation instruments must be consulted. Similarly, each time a delegation of authority is revoked or redelegated, each of the delegation documents must be reviewed and amended as necessary.

ATF has determined that this multiplicity of delegation instruments complicates and hinders the task of determining which ATF officer is authorized to perform a particular function. ATF also believes these multiple delegation instruments exacerbate the administrative burden associated with maintaining up-to-date delegations, resulting in an undue delay in reflecting current authorities.

Accordingly, this final rule rescinds all authorities of the Director in parts 6, 8, 10 and 11 that were previously delegated and places those authorities with the “appropriate ATF officer.” Most of the authorities of the Director that were not previously delegated are also placed with the “appropriate ATF officer.” Along with this final rule, ATF is publishing ATF Order 1130.7, Delegation Order—Delegation of the Director's Authorities in Parts 6, 8, 10 and 11, which delegates certain of these authorities to the appropriate organizational level. The effect of these changes is to consolidate all delegations of authority in parts 6, 8, 10 and 11 into one delegation instrument. This action both simplifies the process for determining what ATF officer is authorized to perform a particular function and facilitates the updating of delegations in the future. As a result, delegations of authority will be reflected in a more timely and user-friendly manner.

In addition, this final rule also amends parts 6, 8, 10 and 11 to provide that the submission of documents other than ATF forms (such as letterhead applications, notices and reports) must be filed with the “appropriate ATF officer” identified in ATF Order 1130.7. These changes will facilitate the identification of the officer with whom forms and other required submissions are filed.

This final rule also makes various technical amendments to 27 CFR parts 6, 8, 10 and 11. New sections are added in each part to recognize the authority of the Director to delegate regulatory authorities and to identify ATF Order 1130.7 as the instrument reflecting such delegations.

ATF has begun to make similar changes in delegations to other parts of Title 27 of the Code of Federal Regulations through separate rulemakings. By amending the regulations part by part, rather than in one large rulemaking document and ATF Order, ATF minimizes the time expended in notifying interested parties of current delegations of authority.

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule, the provisions of the Regulatory Flexibility Act (5 U.S.C. 601 et seq.) do not apply.

Executive Order 12866

It has been determined that this rule is not a significant regulatory action because it will not: (1) Have an annual effect on the economy of $100 million or more or adversely affect in a material way the economy, a sector of the economy, productivity, competition, jobs, the environment, public health or safety, or State, local or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in Executive Order 12866.

Administrative Procedure Act

Because this final rule merely makes technical amendments and conforming changes to improve the clarity of the regulations, it is unnecessary to issue this final rule with notice and public procedure under 5 U.S.C. 553(b). Similarly it is unnecessary to subject this final rule to the effective date limitation of 5 U.S.C. 553(d).

Drafting Information

The principal author of this document is Robert Ruhf, Regulations Division, Bureau of Alcohol, Tobacco and Firearms.

List of Subjects

27 CFR Part 6

Advertising, Alcohol and alcoholic beverages, Antitrust, Credit, Trade agreements and Trade practices.

27 CFR Part 8

Alcohol and alcoholic beverages, Antitrust, Trade agreements and Trade practices.

27 CFR Part 10

Alcohol and alcoholic beverages, Antitrust, Trade agreements and Trade practices.

27 CFR Part 11

Alcohol and alcoholic beverages, Antitrust, Trade agreements and Trade practices.

Authority and Issuance

Title 27, Code of Federal Regulations is amended to read as follows:

PART 6—TIED HOUSE

Paragraph 1. The authority citation for part 6 continues to read as follows:

Authority: 15 U.S.C. 49-50; 27 U.S.C. 202 and 205; 44 U.S.C. 3504(h).

Par. 2. Section 6.5 is redesignated as § 6.6.

Par. 3. A new section 6.5 is added and reads as follows:

§ 6.5 Delegations of the Director.

Most of the regulatory authorities of the Director contained in this part 6 are delegated to appropriate ATF officers. These ATF officers are specified in ATF Order 1130.7, Delegation Order—Delegation of the Director's Authorities in 27 CFR Parts 6, 8, 10 and 11. ATF delegation orders, such as ATF Order 1130.7, are available to any interested person by mailing a request to the ATF Distribution Center, P.O. Box 5950, Springfield, Virginia 22150-5190, or by accessing the ATF web site (http://www.atf.treas.gov/).

Par. 4. In newly designated § 6.6, paragraph (c) is amended by removing the words “Deputy Associate Director (Regulatory Enforcement Programs)” each time it appears and adding in its place the words “appropriate ATF officer” and by revising paragraph (b) to read as follows:

§ 6.6 Administrative provisions.

* * * * *

(b) Examination and subpoena. Any appropriate ATF officer shall at all reasonable times have access to, for the purpose of examination, and the right to copy any documentary evidence of any person, partnership, or corporation being investigated or proceeded against. An appropriate ATF officer shall also have the power to require by subpoena the attendance and testimony of witnesses and the production of all such documentary evidence relating to any matter under investigation, upon a satisfactory showing the requested evidence may reasonably be expected to yield information relevant to any matter being investigated under the Act.

* * * * *

Par. 5-6. Section 6.11 is amended by removing the definitions of “ATF officer” and “Deputy Associate Director (Regulatory Enforcement Programs)” and by adding in alphabetically order a new definition of “appropriate ATF officer” to read as follows:

§ 6.11 Meaning of terms.

* * * * *

Appropriate ATF Officer. An officer or employee of the Bureau of Alcohol, Tobacco and Firearms (ATF) authorized to perform any functions relating to the administration or enforcement of this part by ATF Order 1130.7, Delegation Order—Delegation of the Director's Authorities in 27 CFR Parts 6, 8, 10 and 11.

* * * * *

PART 8—EXCLUSIVE OUTLETS

Par. 7. The authority citation for part 8 continues to read as follows:

Authority: 15 U.S.C. 49-50; 27 U.S.C. 202 and 205; 44 U.S.C. 3504(h).

Par. 8. Section 8.5 is redesignated as § 8.6.

Par. 9. A new section 8.5 is added and reads as follows:

§ 8.5 Delegations of the Director.

Most of the regulatory authorities of the Director contained in this part 8 are delegated to appropriate ATF officers. These ATF officers are specified in ATF Order 1130.7, Delegation Order—Delegation of the Director's Authorities in 27 CFR Parts 6, 8, 10 and 11. ATF delegation orders, such as ATF Order 1130.7, are available to any interested person by mailing a request to the ATF Distribution Center, P.O. Box 5950, Springfield, Virginia 22150-5190, or by accessing the ATF web site (http://www.atf.treas.gov/).

Par. 10. Paragraph (c) of newly designated § 8.6 is amended by removing the words “Deputy Associate Director (Regulatory Enforcement Programs)” each place it appears and adding, in place thereof, the words “appropriate ATF officer” and revising paragraph (b) to read as follows:

§ 8.6 Administrative provisions.

* * * * *

(b) Examination and subpoena. Any appropriate ATF officer shall at all reasonable times have access to, for the purpose of examination, and the right to copy any documentary evidence of any person, partnership, or corporation being investigated or proceeded against. An appropriate ATF officer shall also have the power to require by subpoena the attendance and testimony of witnesses and the production of all such documentary evidence relating to any matter under investigation, upon a satisfactory showing the requested evidence may reasonably be expected to yield information relevant to any matter being investigated under the Act.

* * * * *

Par. 11.-12. Section 8.11 is amended by removing the definitions of “ATF officer” and “Deputy Associate Director (Regulatory Enforcement Programs)” and by adding in alphabeltical order a new definition of “appropriate ATF officer” to read as follows:

§ 8.11 Meaning of terms.

* * * * *

Appropriate ATF Officer. An officer or employee of the Bureau of Alcohol, Tobacco and Firearms (ATF) authorized to perform any functions relating to the administration or enforcement of this part by ATF Order 1130.7, Delegation Order—Delegation of the Director's Authorities in 27 CFR Parts 6, 8, 10 and 11.

* * * * *

PART 10—COMMERCIAL BRIBERY

Par. 13. The authority citation for part 10 continues to read as follows:

Authority: 15 U.S.C. 49-50; 27 U.S.C. 202 and 205; 44 U.S.C. 3504(h).

Par. 14. Section 10.5 is redesignated as § 10.6.

Par. 15. A new section 10.5 is added and reads as follows:

§ 10.5 Delegations of the Director.

Most of the regulatory authorities of the Director contained in this part 10 are delegated to appropriate ATF officers. These ATF officers are specified in ATF Order 1130.7, Delegation Order—Delegation of the Director's Authorities in 27 CFR Parts 6, 8, 10 and 11. ATF delegation orders, such as ATF Order 1130.7, are available to any interested person by mailing a request to the ATF Distribution Center, P.O. Box 5950, Springfield, Virginia 22150-5190, or by accessing the ATF web site (http://www.atf.treas.gov/).

Par. 16. Paragraph (c) of newly designated § 10.6 is amended by removing the words “Deputy Associate Director (Regulatory Enforcement Programs)” each time it appears and adding in its place the words “appropriate ATF officer,” and paragraph (b) is revised to read as follows:

§ 10.6 Administrative Provisions.

* * * * *

(b) Examination and subpoena. Any appropriate ATF officer shall at all reasonable times have access to, for the purpose of examination, and the right to copy any documentary evidence of any person, partnership, or corporation being investigated or proceeded against. An appropriate ATF officer shall also have the power to require by subpoena the attendance and testimony of witnesses and the production of all such documentary evidence relating to any matter under investigation, upon a satisfactory showing the requested evidence may reasonably be expected to yield information relevant to any matter being investigated under the Act.

* * * * *

Par. 17-18. Section 10.11 is amended by removing the definitions of “ATF officer” and “Deputy Associate Director (Regulatory Enforcement Programs)” and by adding in alphabetical order a new definition of “appropriate ATF officer” to read as follows:

§ 10.11 Meaning of terms.

* * * * *

Appropriate ATF Officer. An officer or employee of the Bureau of Alcohol, Tobacco and Firearms (ATF) authorized to perform any functions relating to the administration or enforcement of this part by ATF Order 1130.7, Delegation Order—Delegation of the Director's Authorities in 27 CFR parts 6, 8, 10 and 11.

PART 11—CONSIGNMENT SALES

Par. 19. The authority citation for part 11 continues to read as follows:

Authority: 15 U.S.C. 49-50; 27 U.S.C. 202 and 205.

Par. 20. Section 11.5 is redesignated as § 11.6.

Par. 21. A new section 11.5 is added and reads as follows:

§ 11.5 Delegations of the Director.

Most of the regulatory authorities of the Director contained in this part 11 are delegated to appropriate ATF officers. These ATF officers are specified in ATF Order 1130.7, Delegation Order—Delegation of the Director's Authorities in 27 CFR Parts 6, 8, 10 and 11. ATF delegation orders, such as ATF Order 1130.7, are available to any interested person by mailing a request to the ATF Distribution Center, P.O. Box 5950, Springfield, Virginia 22150-5190, or by accessing the ATF web site (http://www.atf.treas.gov/).

Par. 22. Paragraph (b) of newly designated § 11.6 is revised to read as follows:

§ 11.6 Administrative provisions.

* * * * *

(b) Examination and subpoena. Any appropriate ATF officer shall at all reasonable times have access to, for the purpose of examination, and the right to copy any documentary evidence of any person, partnership, or corporation being investigated or proceeded against. An appropriate ATF officer shall also have the power to require by subpoena the attendance and testimony of witnesses and the production of all such documentary evidence relating to any matter under investigation, upon a satisfactory showing the requested evidence may reasonably be expected to yield information relevant to any matter being investigated under the Act.

* * * * *

Par. 23. Section 11.11 is amended by removing the definition of “ATF officer” and by adding in alphabetical order a new definition of “appropriate ATF officer” to read as follows:

§ 11.11 Meaning of terms.

* * * * *

Appropriate ATF Officer. An officer or employee of the Bureau of Alcohol, Tobacco and Firearms (ATF) authorized to perform any functions relating to the administration or enforcement of this part by ATF Order 1130.7, Delegation Order—Delegation of the Director's Authorities in 27 CFR parts 6, 8, 10 and 11.

* * * * *

Signed: May 18, 2000.
Bradley A. Buckles,
Director.
Approved: June 21, 2000.
John P. Simpson,
Deputy Assistant Secretary (Regulatory, Tariff and Trade Enforcement).

[FR Doc. 00-21901 Filed 8-25-00; 8:45 am]

BILLING CODE 4810-31-P